DEPARTMENT OF LABOR

Office of the Secretary

Submission for OMB Review: Comment Request

October 26, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Cranes and Derricks Standard for Construction (29 CFR 1926.550).

OMB Control Number: 1218-0113.

Affected Public: Private Sector: Business or other for-profits.

Estimated Number of Respondents: 91,997.

Estimated Total Annual Burden Hours: 103,076.

Estimated Total Annual Costs Burden: $570,074.

Description: The Cranes and Derricks Standard at 29 CFR 1926.550 and its information collection requirements protect employees who operate, or work near, cranes or derricks. The Standard contains posting and certification requirements. These requirements ensure employees will operate cranes or derricks according to the crane/derricks limitations and specifications and that the machinery is properly functioning.

Agency: Occupational Safety and Health Administration.

Type of Review: Extension without change of a previously approved collection.

Title: Logging Operations (29 CFR 1910.266).

OMB Control Number: 1218-0198.

Affected Public: Private Sector: Business or other for-profits and farms.

Estimated Number of Respondents: 11,447.

Estimated Total Annual Burden Hours: 31,286.

Estimated Total Annual Costs Burden: $0.

Description: Title 29 CFR 1910.266(i)(10)(i) specifies that employers engaging in logging operations must provide written certification that employees and supervisors completed certain required training, including first-aid training, while paragraph (i)(10)(ii) mandates that employers retain these certificates until replaced by more recent certificates. Establishing and maintaining this written certification of training assures the employer that the training specified by the Standard has been conducted, and at the required frequencies. In addition, these records provide the most efficient means for an OSHA compliance officer to determine whether an employer conducted the required training at the necessary and appropriate frequencies.

Darrin A. King,
Acting Departmental Clearance Officer.

[FR Doc. E7-21467 Filed 10-31-07; 8:45 am]

BILLING CODE 4510-26-P